DEPARTMENT OF COMMERCE

National Oceanic and Atmospheric Administration

Agency Information Collection Activities; Submission to the Office of Management and Budget (OMB) for Review and Approval; Comment Request; Applications and Reporting Requirements for the Incidental Take of Marine Mammals by Specified Activities Under the Marine Mammal Protection Act

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on January 29, 2021 (86 FR 7544) during a 60-day comment period. This notice allows for an additional 30 days for public comments.

Agency: National Oceanic & Atmospheric Administration (NOAA), Commerce.

Title: Applications and Reporting Requirements for the Incidental Take of Marine Mammals by Specified Activities Under the Marine Mammal Protection Act.

OMB Control Number: 0648-0151.

Form Number(s): None.

Type of Request: Regular submission (extension of a current information collection).

Number of Respondents: 699.

Average Hours per Response: 281 hours for an Incidental Harassment Authorization (IHA) application; 30 hours for an IHA Interim Draft Report; 140 hours for an IHA draft annual report; 28 hours for an IHA final annual report (if applicable); 1,200 hours for the initial preparation of an application for new regulations; 70 hours for an annual Letter of Authorization (LOA) application; 225 hours for an LOA draft annual report; 70 hours for a LOA final annual report (if applicable); 640 hours for a LOA draft comprehensive report; 300 hours for an LOA final comprehensive report; 140 hours for a Gulf of Mexico Rule (GOM) draft annual report; 28 hours for a GOM final annual report; and 1,540 hours for PAM/PSO Surveys. Response times will vary for the public based upon the complexity of the requested action.

Total Annual Burden Hours: 259,743.

Needs and Uses: This request is for an extension of a currently approved information collection, 0648-0151.

The Marine Mammal Protection Act of 1972 (MMPA; 16 U.S.C. 1361 et seq.) prohibits the “take” of marine mammals unless otherwise authorized or exempted by law. Among the provisions that allow for lawful take of marine mammals, sections 101(a)(5)(A) and (D) of the MMPA direct the Secretary of Commerce to allow, upon request, the incidental, but not intentional, taking of small numbers of marine mammals by U.S. citizens who engage in a specified activity (other than commercial fishing), within a specified geographical region if, after notice and opportunity for public comment, we find that the taking will have a negligible impact on the affected species or stock(s) and will not have an unmitigable adverse impact on the availability of the species or stock(s) for subsistence uses (where relevant). NMFS also must set forth the permissible methods of taking; other means of effecting the least practicable adverse impact on the species or stock and its habitat (mitigation); and requirements pertaining to the monitoring and reporting of such taking. NMFS Office of Protected Resources leads the process for the agency.

Issuance of an incidental take authorization (Authorization) under section 101(a)(5)(A) or 101(a)(5)(D) of the MMPA requires three sets of information collection: (1) A complete application for an Authorization, as set forth in our implementing regulations at 50 CFR 216.104, which provides the information necessary for us to make the necessary statutory determinations, including estimates of take and an assessment of impacts on the affected species and stocks; (2) information relating to required monitoring; and (3) information related to required reporting. These collections of information enable us to: (1) Evaluate the proposed activity's impact on marine mammals; (2) arrive at the appropriate determinations required by the MMPA and other applicable laws prior to issuing the authorization; and (3) monitor impacts of activities for which we have issued Authorizations to determine if our predictions regarding impacts on marine mammals remain valid.

We do not propose any changes to the information collection beyond expecting an increased number of respondents and responses due to increases in the number of requests for incidental take authorizations and requests for Letters of Authorization from a recent GOM rule.

Affected Public: Business or other for-profit organizations; Not-for-profit institutions; State, Local, or Tribal government; Federal government.

Frequency: One application for every LOA or IHA, draft and final annual and comprehensive reports.

Respondent's Obligation: Mandatory.

Legal Authority: Marine Mammal Protection Act of 1972 (MMPA, 16 U.S.C. 1361 et seq.).

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0151.

Sheleen Dumas,
Department PRA Clearance Officer, Office of the Chief Information Officer, Commerce Department.

[FR Doc. 2021-11953 Filed 6-7-21; 8:45 am]

BILLING CODE 3510-22-P